DEPARTMENT OF COMMERCE

International Trade Administration

(A-412-822)

Stainless Steel Bar from the United Kingdom: Notice of Rescission of Antidumping Duty Administrative Review

AGENCY: Import Administration, International Trade Administration, Department of Commerce.

EFFECTIVE DATE: July 24, 2007.

FOR FURTHER INFORMATION CONTACT: Kate Johnson or Rebecca Trainor, AD/CVD Operations, Office 2, Import Administration, International Trade Administration, U.S. Department of Commerce, 14th Street and Constitution Avenue, NW, Washington, DC 20230; telephone: (202) 482-4929 or (202) 482-4007, respectively.

SUPPLEMENTARY INFORMATION:

Background

On March 2, 2007, the Department of Commerce (the Department) published in the Federal Register a notice of “Opportunity To Request Administrative Review” of the antidumping duty order on stainless steel bar from the United Kingdom for the period March 1, 2006, through February 28, 2007. See Antidumping or Countervailing Duty Order, Finding, or Suspended Investigation; Opportunity to Request Administrative Review, 72 FR 9505 (March 2, 2007). On March 22, 2007, Sandvik Limited trading as Sandvik Bioline requested an administrative review of its sales for this period. On March 29, 2007, Enpar Special Alloys Limited (Enpar) requested an administrative review of its sales for this period, and on March 30, 2007, Corus Engineering Steels (CES), a division of Corus UK Limited, requested an administrative of its sales for this period. On April 27, 2007, the Department published a notice of initiation of an administrative review of the antidumping duty order on stainless steel bar from the United Kingdom with respect to these companies. See Initiation of Antidumping and Countervailing Duty Administrative Reviews, 72 FR 20986 (April 27, 2007).

Rescission of Review

On June 4, 2005, Sandvik Bioline timely withdrew its request for an administrative review of its sales during the above-referenced period. One June 27 and July 6, 2007, Enpar and CES, respectively, also withdrew their requests for an administrative review of their sales during the above-referenced period. Section 351.213(d)(1) of the Department's regulations stipulates that the Secretary will rescind an administrative review if the party that requests a review withdraws the request within 90 days of the date of publication of notice of initiation of the requested review. In this case, Sandvik, Enpar and CES have withdrawn their requests for review within the 90-day period. As these three companies were the only parties to request the initiation of the review, we are rescinding this review of the antidumping duty order on stainless steel bar from the United Kingdom pursuant to 19 CFR 351.213(d)(1). Accordingly, we will instruct U.S. Customs and Border Protection to liquidate entries of the subject merchandise made during the period March 1, 2006, through February 28, 2007, at the rate in effect for each company upon the date of entry.

This notice is published in accordance with section 751 of the Tariff Act of 1930, as amended, and 19 CFR 351.213(d)(4).

Dated: July 16, 2007.
Stephen J. Claeys,
Deputy Assistant Secretary for Import Administration.

[FR Doc. E7-14287 Filed 7-23-07; 8:45 am]

BILLING CODE 3510-DS-S